DEPARTMENT OF JUSTICE

Antitrust Division

Notice Pursuant to the National Cooperative Research and Production Act of 1993—Caterpillar Inc.: Structural Health Integrated Electronic Life Determination (“Shield”)

Notice is hereby given that, on November 19, 2002, pursuant to section 6(a) of the National Cooperative Research and Production Act of 1993, 15 U.S.C. 4301 et seq. (“the Act”), Caterpillar has filed written notifications simultaneously with the Attorney General and the Federal Trade Commission disclosing (1) the identities of the parties and (2) the nature and objectives of a joint venture. The notifications were filed for the purpose of invoking the Act's provisions limiting the recovery of antitrust plaintiffs to actual damages under specified circumstances. Pursuant to section 6(b) of the Act, the identities of the parties are Caterpillar Inc., Mossville, IL; Motorola, Inc., Schaumburg, IL; and Native American Technologies Company, Golden, CO. The nature and objectives of the venture are to develop and demonstrate an on-board, electronic, real time structural health monitoring system for metals. The activities of this Joint Venture project will be partially funded by an award from the Advanced Technology Program, National Institute of Standards and Technology, Department of Commerce.

Constance K. Robinson,
Director of Operations, Antitrust Division.

[FR Doc. 03-627 Filed 1-10-03; 8:45 am]

BILLING CODE 4410-11-M